INTERNATIONAL TRADE COMMISSION

[Inv. No. 337-TA-492]

Certain Plastic Grocery and Retail Bags; Notice of Decisions Not To Review Two Initial Determinations Each Terminating the Investigation as to Certain Respondents on the Basis of Settlement Agreements and One Initial Determination Terminating the Investigation as to a Respondent on the Basis of a Consent Order; Issuance of Consent Order

AGENCY: International Trade Commission.

ACTION: Notice.

SUMMARY: Notice is hereby given that the U.S. International Trade Commission has determined not to review the following initial determinations (IDs) issued by the presiding administrative law judge (ALJ) in the above-captioned investigation: (1) Order No. 28, terminating the investigation as to respondents Advance Polybag, Inc. (“API”) and Universal Polybag Co. Ltd. (“Universal”) on the basis of a settlement agreement; (2) Order No. 29, terminating the investigation as to respondent Pan Pacific Plastics Mfg., Inc. (“Pan Pacific”) on the basis of settlement agreement; and (3) Order No. 30, terminating the investigation as to respondent Prime Source International LLC (“Prime Source”) on the basis of a consent order.

FOR FURTHER INFORMATION CONTACT: Andrea Casson, Esq., Office of the General Counsel, U.S. International Trade Commission, 500 E Street, SW., Washington, DC 20436, telephone 202-205-3105. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on the matter can be obtained by contacting the Commission's TDD terminal on 202-205-1810.

SUPPLEMENTARY INFORMATION: The Commission instituted this investigation on May 1, 2003, based on a complaint filed by Superbag Corp. (“Superbag”) of Houston, Texas, against four respondents, including Pan Pacific of Union City, California. 68 FR 24755. Superbag's complaint alleged violations of section 337 of the Tariff Act of 1930 in the importation into the United States, sale for importation, and/or sale within the United States after importation of certain T-styled plastic grocery and retail bags that infringe one or more of claims 1-8 and 15-19 of Superbag's U.S. Patent No. 5,188,235. On August 22, 2003, the ALJ issued an ID (Order No. 7) granting complainant's motion to amend the complaint to add six additional respondents to the investigation, including API of Metarie, Louisiana, Universal of Thailand, and Prime Source of Westerville, Ohio. That ID was not reviewed by the Commission. 68 FR 54740 (Sept. 18., 2003). The Commission subsequently terminated the investigation as to respondent Spectrum Plastics, Inc. on the basis of a consent order.

On January 16, 2004 complainant and respondents API and Universal jointly moved to terminate the investigation as to those respondents on the basis of a settlement agreement. On January 24, 2004, complainant and respondent Pan Pacific moved to terminate the investigation as to Pan Pacific on the basis of a settlement agreement. On January 22, 2004 complainant moved to terminate the investigation with respect to Prime Source on the basis of a proposed consent order. On February 2, 2004, the Commission investigative attorney filed responses supporting each of the three motions for termination.

On February 3, 2004, the ALJ issued three IDs (Orders Nos. 28, 29, and 30) granting the respective motions. No petitions for review of the IDs were filed.

The authority for the Commission's determination is contained in section 337 of the Tariff Act of 1930, as amended (19 U.S.C. 1337), and in § 210.42 of the Commission's Rules of Practice and Procedure (19 CFR 210.42).

Issued: February 26, 2004.
By order of the Commission.
Marilyn R. Abbott,
Secretary.

[FR Doc. 04-4632 Filed 3-1-04; 8:45 am]

BILLING CODE 7020-02-P